INTERNATIONAL DEVELOPMENT FINANCE CORPORATION

[DFC-015]

Submission for OMB Review; comments request

AGENCY: U.S. International Development Finance Corporation (DFC).

ACTION: Notice of Information Collection; request for comment.

SUMMARY: Under the provisions of the Paperwork Reduction Act, agencies are required to publish a Notice in the Federal Register notifying the public that the agency is creating a new information collection form for OMB review and approval and requests public review and comment on the submission. The agencies received no comments in response to the sixty (60) day notice. The purpose of this notice is to allow an additional thirty (30) days for public comments to be submitted. Comments are being solicited on the need for the information; the accuracy of the burden estimate; the quality, practical utility, and clarity of the information to be collected; and ways to minimize reporting the burden, including automated collected techniques and uses of other forms of technology.

DATES: Comments must be received by November 30, 2020.

ADDRESSES: Comments and requests for copies of the subject information collection may be sent by any of the following methods:

• Mail: Joanna Reynolds, Agency Submitting Officer, U.S. International Development Finance Corporation, 1100 New York Avenue NW, Washington, DC 20527.

• Email: fedreg@dfc.gov.

Instructions: All submissions received must include the agency name and agency form number or OMB form number for this information collection. Electronic submissions must include the agency form number in the subject line to ensure proper routing. Please note that all written comments received in response to this notice will be considered public records.

FOR FURTHER INFORMATION CONTACT: Agency Submitting Officer: Joanna Reynolds, (202) 357-3979.

SUPPLEMENTARY INFORMATION: The agency received no comments in response to the sixty (60) day notice published in Federal Register volume 85 page 51684 on August 21, 2020. Upon publication of this notice, DFC will submit to OMB a request for approval of the following information collection.

Summary Form Under Review

Title of Collection: MTU Intake Questionnaire.

Type of Review: New information collection.

Agency Form Number: DFC-015.

OMB Form Number: Not assigned, new information collection.

Frequency: Once per investor and per project.

Affected Public: Business, other for-profit; not-for-profit institutions.

Total Estimated Number of Annual Number of Respondents: 130.

Estimated Time Per Respondent: 1 hour

Total Estimated Number of Annual Burden Hours: 130 hours.

Abstract: The MTU Intake Questionnaire is the principal document used to collect information from potential clients seeking support from the Mission Transaction Unit (MTU) of DFC. MTU works together with USAID missions and operating units to promote and advance the agencies' development objectives around the world.

Dated: October 27, 2020.
Nichole Skoyles,
Administrative Counsel, Office of the General Counsel.

[FR Doc. 2020-24144 Filed 10-29-20; 8:45 am]

BILLING CODE 3210-01-P